DEPARTMENT OF ENERGY

Federal Energy Regulatory Commission

[Docket No. CP13-61-000]

Dominion Transmission, Inc.; Notice of Request Under Blanket Authorization

Take notice that on January 29, 2013, Dominion Transmission, Inc. (Dominion), 701 East Cary Street, Richmond, Virginia 23219, filed in Docket No. CP13-61-000, an application pursuant to sections 157.205 and 157.216 of the Commission's Regulations under the Natural Gas Act (NGA) as amended, to plug and abandon two storage wells and their associated pipelines in Westmoreland County, Pennsylvania, under Dominion's blanket certificate issued in Docket No. CP82-537-000,¹ all as more fully set forth in the application which is on file with the Commission and open to the public for inspection.

¹ 21 FERC ¶ 62,172 (1982).

Dominion proposes to abandon and plug wells JW-451F and JW-454F and their associated pipelines located near the Murrysville Pool of the Oakford Storage Complex. Dominion states that it owns the Oakford Storage Complex jointly and equally as tenants in common with Texas Eastern Transmission, LP. Dominion also states that as the operator of the Oakford Storage Complex, that it has filed this proposal on behalf of both parties with the Commission. Dominion further states that the certificated physical parameters, including total natural gas inventory, reservoir pressure, reservoir and buffer boundaries, and the certificated capacity of the Oakford Storage Complex would remain unchanged with the abandonment and plugging of the two wells. Dominion asserts that the proposed abandonment would not have any adverse effect on existing customers, existing pipelines, landowners, or communities, and would not result in any financial subsidization from existing customers. Dominion estimates that it would cost $1,479,000 to replicate the two wells and their associated pipelines.

Any questions concerning this application may be directed to Amanda K. Prestage, Regulatory and Certificates Analyst, Dominion Transmission, Inc., 701 East Cary Street, Richmond, Virginia 23219, telephone (804) 771-4416, facsimile (804) 771-4804, or Email: Amanda.K.Prestage@dom.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: February 11, 2013.
Kimberly D. Bose,
Secretary.

[FR Doc. 2013-03701 Filed 2-15-13; 8:45 am]

BILLING CODE 6717-01-P